DEPARTMENT OF HOMELAND SECURITY

Federal Emergency Management Agency

Agency Information Collection Activities: Proposed Collection; Comment Request

AGENCY: Federal Emergency Management Agency, Emergency Preparedness and Response Directorate, U.S. Department of Homeland Security.

ACTION: Notice and request for comments.

SUMMARY: The Federal Emergency Management Agency, as part of its continuing effort to reduce paperwork and respondent burden, invites the general public and other Federal agencies to take this opportunity to comment on a proposed revised information collection. In accordance with the Paperwork Reduction Act of 1995 (44 U.S.C. 3506(c)(2)(A)), this notice seeks comments concerning the collection of information from States and local communities seeking flood insurance premium discounts through the Community Rating System Program (CRS).

SUPPLEMENTARY INFORMATION: The National Flood Insurance Act of 1968 (Public Law 90-488 as amended) created the National Flood Insurance Program (NFIP) whose central element is the promotion and implementation of sound local floodplain management in an effort to reduce loss of property and life. Participation in the NFIP is contingent on communities' adoption of minimum floodplain management standards. The Community Rating System was designed by FEMA to encourage States and communities to undertake activities that will mitigate flooding and flood damage beyond the minimum standards for NFIP participation. Under this system, communities apply for activity points, leading up to a CRS rating and commensurate flood insurance premium discounts. This information collection consists of the NFIP/CRS Coordinator's Manual, which describes the floodplain management and insurance benefits available to qualifying communities that undertake additional activities and contains the application worksheets and required documentation. The National Flood Insurance Reform Act of 1994 codified the CRS.

Collection of Information

Title: Community Rating System (CRS) Program Application Worksheets and Commentary.

Type of Information Collection: Revision of a currently approved collection.

OMB Number: 1660-0022.

Form Numbers: None.

Abstract: The Community Rating System (CRS), designed by the Federal Emergency Management Agency as part of the National Flood Insurance Program (NFIP), provides flood insurance premiums discounts to communities that undertake activities that will mitigate flooding and flood damage beyond the minimum standards required by the NFIP. Communities select approved activities they want to get credit for either as a first time or continuing participant.

Affected Public: State, local or tribal governments.

Estimated Total Annual Burden Hours: 11,280 hours.

Table 1.—Annual Burden Hours
Project/activity (survey, form(s), focus group, etc.) | Number of respondents (A) | Frequency of responses (B) | Burden hours per respondent (C) | Annual respnses (A × B) | Total annual burden hours (A × B × C)
Application (first time) | 240 | 1 | 31 | 240 | 7,440
Maintenance (continuing) | 960 | 1 | 4 | 960 | 3,840
TOTAL | 1,200 | 1 |  | 1,200 | 11,280

Estimated Cost: $308,346.00

Table 2.—Annual Cost to Respondents
Program | Burden hours | Median hour rate ($) | Average cost per hour per respondent ($) | Annualized cost all respondents ($)
Application | 7,440 | 27.38 | 849.00 | 203,707.00
Maintenance | 3,840 | 27.38 | 110.00 | 105,139.00
Grand Total | 11,280 |  |  | 308,346.00

Comments: Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Section, Information Resources Management Branch, Information Technology Services Division, Federal Emergency Management Agency, Emergency Preparedness and Response Directorate, Department of Homeland Security, 500 C Street, SW., Room 316, Washington, DC 20472.

FOR FURTHER INFORMATION CONTACT: Bret Gates, CRS Program Manager, Mitigation Division at 202-646-4133 for additional information. You may contact Ms. Anderson for copies of the proposed collection of information at facsimile number (202) 646-3347 or e-mail address: FEMA-Information-Collections@dhs.gov.

Dated: March 18, 2005.
George S. Trotter,
Acting Branch Chief, Information Resources Management Branch, Information Technology Services Division.

[FR Doc. 05-6438 Filed 3-31-05; 8:45 am]

BILLING CODE 9110-11-P